NATIONAL SCIENCE FOUNDATION

Notice of Permit Applications Received Under the Antarctic Conservation Act of 1978

AGENCY: National Science Foundation.

ACTION: Notice of permit applications received.

SUMMARY: The National Science Foundation (NSF) is required to publish a notice of permit applications received to conduct activities regulated under the Antarctic Conservation Act of 1978. NSF has published regulations under the Antarctic Conservation Act in the Code of Federal Regulations. This is the required notice of permit applications received.

DATES: Interested parties are invited to submit written data, comments, or views with respect to this permit application by November 21, 2019. This application may be inspected by interested parties at the Permit Office, address below.

ADDRESSES: Comments should be addressed to Permit Office, Office of Polar Programs, National Science Foundation, 2415 Eisenhower Avenue, Alexandria, Virginia 22314.

FOR FURTHER INFORMATION CONTACT: Nature McGinn, ACA Permit Officer, at the above address, 703-292-8030, or ACApermits@nsf.gov.

SUPPLEMENTARY INFORMATION: The National Science Foundation, as directed by the Antarctic Conservation Act of 1978 (Pub. L. 95-541, 45 CFR 670), as amended by the Antarctic Science, Tourism and Conservation Act of 1996, has developed regulations for the establishment of a permit system for various activities in Antarctica and designation of certain animals and certain geographic areas a requiring special protection. The regulations establish such a permit system to designate Antarctic Specially Protected Areas.

Application Details

Permit Application: 2020-016

1. Applicant Ari Friedlaender, UC Santa Cruz, Institute of Marine Sciences, 115 McAllister Way, Santa Cruz, CA 96050.

Activity for Which Permit is Requested: Take, Harmful Interference, Import into USA, Enter Antarctic Specially Protected Areas (ASPAs). The applicant proposes to engage in research activities to understand the population demography, health, behavior, and ecology of cetaceans, pinnipeds, and seabirds in the Antarctic Peninsula region. To study these species, the applicant and agents would assess body condition, health, behavior, and distribution using remotely piloted aircraft systems (RPAS). Population demography and growth rates of cetaceans would be evaluated from remote biopsy samples that would be imported to the US for analysis. Behavior and ecology of individual whales would be studied using multi-sensor suction cup tags that collect high-resolution behavioral information for 1-2 days, dart/barb tags that to collect spatial and dive data for up to one month, and implantable tags that collect movement and behavioral data on individual whales for months. The applicant and agents would biopsy, tag, and operate RPAS over humpback whales, Antarctic minke whales, blue whales, fin whales, sei whales, southern right whales, killer whales, and Arnoux's beaked whales. The applicant and agents would also operate RPAS over Antarctic fur seals, crabeater seals, leopard seals, Weddell seals, elephant seals, Adelie penguins, gentoo penguins, chinstrap penguins, brown skua, south polar skua, giant petrel, kelp gull, blue-eyed shag, and snowy sheathbill. In order to capture imagery of some seals and seabird species, the applicant and agents would enter the ASPA 117, Avian Island. The proposed research focusing on cetaceans requires a permit under the Marine Mammal Protection Act. The proposed research on pinnipeds would be authorized by a Letter of Confirmation issued by the National Marine Fisheries Service (expiry date: November 15, 2022).

Location: Antarctic Peninsula region.

Dates of Permitted Activities: November 1, 2019—October 31, 2024.

Suzanne H. Plimpton,
Reports Clearance Officer, National Science Foundation.

[FR Doc. 2019-22982 Filed 10-21-19; 8:45 am]

BILLING CODE 7555-01-P